DEPARTMENT OF COMMERCE

National Oceanic and Atmospheric Administration

[I.D. 021607F]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene the Standing Scientific and Statistical Committee (SSC) to address four issues (see SUPPLEMENTARY INFORMATION).

DATES: The meeting will begin at 8:30 a.m. on Thursday, March 15 &16, 2007 and conclude by 3 p.m.

ADDRESSES: Meeting address: The meeting will be held at the Four Points by Sheraton, 6401 Veterans Memorial Blvd., Metairie, LA 70003.

Council address: Gulf of Mexico Fishery Management Council, 2203 N. Lois Avenue, Suite 1100, Tampa, FL 33607.

FOR FURTHER INFORMATION CONTACT: Wayne Swingle, Executive Director, Gulf of Mexico Fishery Management Council; telephone: 813-348-1630.

SUPPLEMENTARY INFORMATION: The SSC will address these issues:

Review and provide guidance on the draft provisions of Reef Fish Amendment 27 and Shrimp Amendment 14 which set manage measures to rebuild the red snapper resource in the Gulf of Mexico.

Review the SEDAR 12 assessment of red grouper in the Gulf of Mexico. The SSC will determine if the SEDAR 12 Review Panel reports are based on the best available information. The SSC may provide guidance to the Council about the results of the assessment and research recommendations made by the SEDAR panels.

Examine the availability of new information on Gulf of Mexico red drum and provide guidance to the Council on whether a SEDAR benchmark assessment can be conducted and may comment on new research or data collections would be necessary to adequately conduct such an assessment.

Review the provisions of the Scoping document for Reef Fish Amendment 30 which includes gag and red grouper, greater amberjack and gray triggerfish management measures to determine if they are scientifically sound based on the recent SEDAR assessments of these species.

A copy of the agenda and related materials can be obtained by calling the Council office at 813-348-1630.

Although other non-emergency issues not on the agendas may come before the Standing Scientific and Statistical Committee (SSC), in accordance with the Magnuson-Stevens Fishery Conservation and Management Act (M-SFCMA), those issues may not be the subject of formal action during this meeting. Actions of the Standing Statistical Committee (SSC) will be restricted to those issues specifically identified in the agendas and any issues arising after publication of this notice that require emergency action under Section 305(c) of the M-SFMCA, provided the public has been notified of the Council's intent to take action to address the emergency.

These meetings are physically accessible to people with disabilities. Requests for sign language interpretation or other auxiliary aids should be directed to Tina Trezza at the Council (see ADDRESSES) at least five working days prior to the meeting.

Dated: February 16, 2007.
Tracey L. Thompson,
Acting Director, Office of Sustainable Fisheries, National Marine Fisheries Service.

[FR Doc. E7-3057 Filed 2-22-07; 8:45 am]

BILLING CODE 3510-22-S